DEPARTMENT OF LABOR

Office of the Secretary

Submission for OMB Review: Comment Request

June 16, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Veterans' Employment and Training Service (VETS), Office of Management and Budget, Room 10235, Washington, DC 20503, Telephone: 202-395-7316 / Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Veterans' Employment and Training Service.

Type of Review: New Collection (Request for a new OMB Control Number).

Title of Collection: Veteran Employment Outcomes Study.

OMB Control Number: 1293-0NEW.

Affected Public: Individuals or Households.

Estimated Number of Respondents: 1,068.

Estimated Total Annual Burden Hours: 267.

Estimated Total Annual Costs Burden: $0.

Description: The purpose of this study is to learn more about veteran users of One-Stop Career Centers who do not appear to have had successful employment outcomes. The survey data collected will help determine to what extent the apparent lack of successful outcomes for veteran job seekers, as measured by the participating states. Further, this collection will allow DOL to learn key characteristics and reasons why some veterans have difficulty or fail to find jobs, learn what services were received and what veterans thought of them, and learn what services were not received and whether they were needed. For additional information, see related notice published at 73 FR 11956 on March 5, 2008.

Darrin A. King,
Acting Departmental Clearance Officer.

[FR Doc. E8-13981 Filed 6-19-08; 8:45 am]

BILLING CODE 4510-79-P